DEPARTMENT OF HEALTH AND HUMAN SERVICES

National Institutes of Health

Center For Scientific Review; Amended Notice of Meeting

Notice is hereby given of a change in the meeting of the Center for Scientific Review Advisory Council, March 30, 2020, 8:30 a.m. to 3:00 p.m. at National Institutes of Health, 6700B Rockledge Drive Conference Room A&B, Bethesda, MD 20817 which was published in the Federal Register on January 30, 2020, 85 FR 5459.

The meeting will be held at National Institutes of Health, 6701 Rockledge Drive, Bethesda, MD 20892 starting at 1:00 p.m. as a Video Assisted Meeting. The meeting date remains the same. The meeting is open to the public.

Dated: March 10, 2020.
Ronald J. Livingston, Jr.,
Program Analyst, Office of Federal Advisory Committee Policy.

[FR Doc. 2020-05360 Filed 3-16-20; 8:45 am]

BILLING CODE 4140-01-P